DEPARTMENT OF TRANSPORTATION

Federal Aviation Administration

14 CFR Part 39

[Docket No. FAA-2015-0133; Directorate Identifier 2014-SW-066-AD; Amendment 39-18088; AD 2014-22-51]

RIN 2120-AA64

Airworthiness Directives; Airbus Helicopters (Formerly Eurocopter France)

AGENCY: Federal Aviation Administration (FAA), Department of Transportation (DOT).

ACTION: Final rule; request for comments.

SUMMARY: We are publishing a new airworthiness directive (AD) for Airbus Helicopters (formerly Eurocopter France) Model EC130T2 helicopters, which was sent previously to all known U.S. owners and operators of these helicopters. This AD requires repetitively inspecting the attachment points where the fan attaches to the main gearbox (MGB) oil cooler hopper (hopper) and replacing any cracked hopper with an airworthy hopper. This AD is prompted by several cases of a cracked hopper. The cracks were found on the hopper at the fan attachment points. These actions are intended to detect a crack in the hopper at a fan attachment point to prevent failure of the fan attachment, interference of the fan with the control rod of the front servo-control or with the flight control bellcrank, and subsequent loss of control of the helicopter.

DATES: This AD becomes effective February 25, 2015 to all persons except those persons to whom it was made immediately effective by Emergency AD (EAD) 2014-22-51, issued on October 29, 2014, which contained the requirements of this AD.

The Director of the Federal Register approved the incorporation by reference of a certain document listed in this AD as of February 25, 2015.

We must receive comments on this AD by April 13, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this AD, contact Airbus Helicopters, Inc., 2701 N. Forum Drive, Grand Prairie, TX 75052; telephone (972) 641-0000 or (800) 232-0323; fax (972) 641-3775; or at http://www.airbushelicopters.com/techpub. You may review the referenced service information at the FAA, Office of the Regional Counsel, Southwest Region, 2601 Meacham Blvd., Room 663, Fort Worth, Texas 76137. It is also available on the Internet at http://www.regulations.gov by searching for and locating Docket No. FAA-2015-0133.

FOR FURTHER INFORMATION CONTACT: Eric Haight, Aviation Safety Engineer, Regulations and Policy Group, Rotorcraft Directorate, FAA, 2601 Meacham Blvd., Fort Worth, Texas 76137; telephone (817) 222-5110; email eric.haight@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On October 29, 2014, we issued EAD 2014-22-51, which requires, before further flight and thereafter at intervals not to exceed 10 hours time-in-service (TIS), visually inspecting the hopper for a crack at the four attachment points. If there is a crack, EAD 2014-22-51 requires replacing the hopper with an airworthy hopper, which is not terminating action for the repetitive visual inspections. EAD 2014-22-51 was sent previously to all known U.S. owners and operators of these helicopters and resulted from several cases of a cracked MGB oil cooler hopper.

EAD 2014-22-51 was prompted by EAD No. 2014-0229-E, dated October 20, 2014, issued by EASA, which is the Technical Agent for the Member States of the European Union, to correct an unsafe condition for the Airbus Helicopters Model EC130T2 helicopters. EASA advises of several cases of cracked MGB oil cooler fan attachments to the hopper. EASA EAD No. 2014-0229-E requires repetitive visual inspections of the MGB oil cooler fan attachment to the hopper and, depending on findings, replacement of cracked parts.

FAA's Determination

This helicopter has been approved by the aviation authority of France and is approved for operation in the United States. Pursuant to our bilateral agreement with France, EASA, its technical representative, has notified us of the unsafe condition described in the EASA EAD. We are issuing this AD because we evaluated all information provided by EASA and determined the unsafe condition exists and is likely to exist or develop on other helicopters of the same type design.

Related Service Information Under 1 CFR Part 51

Airbus Helicopters issued Emergency Alert Service Bulletin No. 05A020 Revision 0, dated October 20, 2014 (EASB), specifying periodic visual checks for cracks in the engine MGB oil fan hopper. The EASB states that a crack could lead to the total failure of the fan attachment and that this condition, if not detected and corrected, could lead to interference of the fan with the control rod of the front servo-control or with the flight control bellcrank, possibly resulting in reduced control of the helicopter. Also, the EASB states that pending modification, the periodic visual check of the hopper is necessary. This service information is reasonably available; see ADDRESSES for ways to access this service information.

AD Requirements

This AD requires, before further flight and thereafter at intervals not to exceed 10 hours TIS, visually inspecting the hopper for a crack at the four fan attachment points. If there is a crack in the hopper, this AD requires replacing the hopper with an airworthy hopper. Replacing the hopper does not constitute terminating action for the repetitive visual inspections required by this AD.

Differences Between This AD and the EASA AD

We do not use the compliance time option of every 7 days.

Interim Action

We consider this AD to be an interim action. The design approval holder is currently developing a modification that will address the unsafe condition identified in this AD. Once this modification is developed, approved, and available, we might consider additional rulemaking.

Costs of Compliance

We estimate that this AD will affect 60 helicopters of U.S. Registry.

We estimate that operators may incur the following costs in order to comply with this AD. Labor costs are estimated at $85 per hour. We estimate 0.2 work hour to inspect the hopper at an estimated $17 per helicopter and a total cost of $1,020 for the fleet. If a hopper is replaced, we estimate 6 hours to replace it and $1,000 for required parts for a total of $1,510.

FAA's Justification and Determination of the Effective Date

Providing an opportunity for public comments prior to adopting these AD requirements would delay implementing the safety actions needed to correct this known unsafe condition. Therefore, we found and continue to find that the risk to the flying public justifies waiving notice and comment prior to the adoption of this rule because the previously described unsafe condition can adversely affect the controllability of the helicopter and the required corrective actions must be accomplished before further flight and in 10-hour intervals.

Since it was found that immediate corrective action was required, notice and opportunity for prior public comment before issuing this AD were impracticable and contrary to the public interest and good cause existed to make the AD effective immediately by EAD 2014-22-51, issued on October 9, 2014, to all known U.S. owners and operators of these helicopters. These conditions still exist and the AD is hereby published in the Federal Register as an amendment to section 39.13 of the Federal Aviation Regulations (14 CFR 39.13) to make it effective to all persons.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-22-51 Airbus Helicopters (Formerly Eurocopter France): Amendment 39-18088; Docket No. FAA-2015-0133; Directorate Identifier 2014-SW-066-AD.

(a) Applicability

This AD applies to Model EC130T2 helicopters, certificated in any category.

(b) Unsafe Condition

This AD defines the unsafe condition as a crack in the main gearbox oil cooler fan hopper. This condition could result in failure of the fan attachment, interference of the fan with the control rod of the front servo-control or with the flight control bellcrank, and subsequent loss of control of the helicopter.

(c) Effective Date

This AD becomes effective February 25, 2015 to all persons except those persons to whom it was made immediately effective by Emergency AD 2014-22-51, issued on October 29, 2014, which contains the requirements of this AD.

(d) Compliance

You are responsible for performing each action required by this AD within the specified compliance time unless it has already been accomplished prior to that time.

(e) Required Actions

Before further flight and thereafter at intervals not to exceed 10 hours time-in-service, using a light and a mirror, visually inspect the hopper for a crack at the four fan attachment points. The hopper is depicted as item “a” and the fan as item “b” in Figure 1 of Airbus Helicopters Emergency Alert Service Bulletin No. 05A020, Revision 0, dated October 20, 2014 (EASB). If there is a crack in the hopper, replace the hopper with an airworthy hopper. Examples of a crack are shown in Figure 2 of the EASB. Replacing the hopper does not constitute terminating action for the repetitive visual inspections required by this AD.

(f) Special Flight Permits

Special flight permits may be issued provided that the fan is removed.

(g) Alternative Methods of Compliance (AMOCs)

(1) The Manager, Safety Management Group, FAA, may approve AMOCs for this EAD. Send your proposal to: Eric Haight, Aviation Safety Engineer, Regulations and Policy Group, Rotorcraft Directorate, FAA, 2601 Meacham Blvd., Fort Worth, Texas 76137; telephone (817) 222-5110; email eric.haight@faa.gov.

(2) For operations conducted under a 14 CFR part 119 operating certificate or under 14 CFR part 91, subpart K, we suggest that you notify your principal inspector, or lacking a principal inspector, the manager of the local flight standards district office or certificate holding district office, before operating any aircraft complying with this EAD through an AMOC.

(h) Additional Information

The subject of this AD is addressed in European Aviation Safety Agency (EASA) Emergency AD No. 2014-0229-E, dated October 20, 2014. You may view the EASA AD on the Internet at http://www.regulations.gov by searching for and locating it in Docket No. FAA-2015-0133.

(i) Subject

Joint Aircraft Service Component (JASC) Tracking Code: 6322 Main Rotor Drive Rotorcraft Cooling Fan System.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. 05A020, Revision 0, dated October 20, 2014.

(ii) Reserved.

(3) For Airbus Helicopters service information identified in this AD, contact Airbus Helicopters, Inc., 2701 N. Forum Drive, Grand Prairie, TX 75052; telephone (972) 641-0000 or (800) 232-0323; fax (972) 641-3775; or at http://www.airbushelicopters.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 16, 2015.
Lance T. Gant,
Acting Directorate Manager, Rotorcraft Directorate, Aircraft Certification Service.

[FR Doc. 2015-01803 Filed 2-9-15; 8:45 am]

BILLING CODE 4910-13-P